DEPARTMENT OF HEALTH AND HUMAN SERVICES

National Institutes of Health

National Cancer Institute; Amended Notice of Meeting

Notice is hereby given of a change in the meeting of the National Cancer Institute Special Emphasis Panel, June 7, 2013, 9:00 a.m. to June 7, 2013, 10:00 a.m., National Institutes of Health, National Cancer Institute, 9609 Medical Center Drive, Room 7W640, Rockville, MD, 20850 which was published in the Federal Register on May 14, 2013, 78 FR 11346.

This notice is being amended due to a change in the meeting name and time to “NCI: Development of Devices for Point of Care Analysis of Circulating Tumor Cells” at 9:30 a.m. to 1:00 p.m. on June 7, 2013. The meeting is closed to the public.

Dated: May 17, 2013.
Melanie J. Gray,
Program Analyst, Office of Federal Advisory Committee Policy.

[FR Doc. 2013-12256 Filed 5-22-13; 8:45 am]

BILLING CODE 4140-01-P